DEPARTMENT OF TRANSPORTATION

Federal Aviation Administration

14 CFR Part 39

[Docket No. 2003-NM-70-AD]

RIN 2120-AA64

Airworthiness Directives; McDonnell Douglas Model MD-11 and -11F Airplanes

AGENCY: Federal Aviation Administration, DOT.

ACTION: Notice of proposed rulemaking (NPRM).

SUMMARY: This document proposes the supersedure of an existing airworthiness directive (AD), applicable to certain McDonnell Douglas Model MD-11 series airplanes, that currently requires performing a general visual inspection to detect chafing or damage of the parallel power feeder cables of the number 2 integrated drive generator (IDG); repairing any chafed cable and damaged structure; and repositioning the parallel power feeder cables of the number 2 IDG. This action would revise the applicability of the existing AD by adding certain airplanes and removing certain other airplanes. The actions specified by the proposed AD are intended to prevent chafing and arcing of the parallel feeder cables of the number 2 IDG, which could result in smoke and/or fire in the right aft galley area. This action is intended to address the identified unsafe condition.

DATES: Comments must be received by September 29, 2003.

ADDRESSES: Submit comments in triplicate to the Federal Aviation Administration (FAA), Transport Airplane Directorate, ANM-114, Attention: Rules Docket No. 2003-NM-70-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-70-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-70-AD.” The postcard will be date stamped and returned to the commenter.

Availability of NPRMs

Any person may obtain a copy of this NPRM by submitting a request to the FAA, Transport Airplane Directorate, ANM-114, Attention: Rules Docket No. 2003-NM-70-AD, 1601 Lind Avenue, SW., Renton, Washington 98055-4056.

Discussion

On August 14, 2001, the FAA issued AD 2001-17-08, amendment 39-12399 (66 FR 44043, August 22, 2001), applicable to certain McDonnell Douglas Model MD-11 series airplanes, to require performing a general visual inspection to detect chafing or damage of the parallel power feeder cables of the number 2 integrated drive generator (IDG); repairing any chafed cable and damaged structure; and repositioning the parallel power feeder cables of the number 2 IDG. That action was prompted by an incident in which smoke permeated the right aft galley area and an electrical power generator system fault alert occurred on a McDonnell Douglas Model MD-11 airplane. The requirements of that AD are intended to prevent chafing and arcing of the parallel feeder cables of the number 2 IDG, which could result in smoke and/or fire in the right aft galley area.

Actions Since Issuance of Previous Rule

Since the issuance of that AD, the airplane manufacturer has informed the FAA that it inadvertently omitted 43 airplanes from the effectivity listing of McDonnell Douglas Alert Service Bulletin MD11-24A157, dated August 10, 2000 (which was referenced in AD 2001-17-08 an appropriate source of service information for accomplishing the required actions) that are subject to the identified unsafe condition and included 24 other airplanes that are not subject to the identified unsafe condition.

Explanation of Relevant Service Information

We have reviewed and approved Boeing Alert Service Bulletin MD11-24A157, Revision 01, dated March 11, 2003, which revises the effectivity of the initial release of the service bulletin by adding 43 additional airplanes and removing 24 other airplanes. The inspection, repositioning, and corrective actions if necessary specified in Revision 01 are essentially identical to those described in initial release of the service bulletin. No more work is necessary on airplanes changed per the initial release of this service bulletin. Accomplishment of the actions specified in the service bulletin is intended to adequately address the identified unsafe condition.

Explanation of Requirements of Proposed Rule

Since an unsafe condition has been identified that is likely to exist or develop on other products of this same type design, the proposed AD would supersede AD 2001-17-08 to require performing a general visual inspection to detect chafing or damage of the parallel power feeder cables of the number 2 IDG; repairing any chafed cable and damaged structure; and repositioning the parallel power feeder cables of the number 2 IDG. The proposed AD also would revise the applicability of the existing AD by adding certain airplanes and removing certain other airplanes. The actions would be required to be accomplished in accordance with the applicable service bulletin revision described previously.

Explanation of Change to Applicability

The applicability of AD 2001-17-08 identified the affected airplanes as “Model MD-11 series airplanes, as listed in McDonnell Douglas Alert Service Bulletin MD11-24A157, dated August 10, 2000.” Although Model MD-11F airplanes are not specifically identified by model name in the applicability of that AD, those airplanes are identified by the manufacturer's fuselage numbers in the referenced service bulletin. This proposed AD would identify those model designations as published in the most recent type certificate data sheet for the affected models (i.e., Model MD-11 and -11F airplanes).

Changes to 14 CFR Part 39/Effect on the AD

On July 10, 2002, we issued a new version of 14 CFR part 39 (67 FR 47997, July 22, 2002), which governs our AD system. The regulation now includes material that relates to altered products, special flight permits, and alternative methods of compliance (AMOCs). Because we have now included this material in part 39, for purposes of this proposed AD, it is only necessary to identify the office authorized to approve AMOCs and previously approved AMOCs that are acceptable for compliance with the applicable requirements of this proposed AD. Therefore, Note 1 and paragraph (c) of AD 2001-17-08 are not included in this proposed AD, and paragraph (b) of AD 2001-17-08 has been revised in this proposed AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 85 airplanes of the affected design in the worldwide fleet. The FAA estimates that 15 airplanes of U.S. registry would be affected by this proposed AD.

For Group 1 airplanes listed in Boeing Alert Service Bulletin MD11-24A157, Revision 01, dated March 11, 2003: The actions that are currently required by AD 2001-17-08 take approximately 4 work hours per airplane to accomplish, at an average labor rate of $65 per work hour. Based on these figures, the cost impact of the currently required actions on these U.S. operators is estimated to be $260 per airplane.

For Group 2 airplanes listed in Boeing Alert Service Bulletin MD11-24A157, Revision 01, dated March 11, 2003: The new actions that are proposed in this AD action would take approximately 5 work hours per airplane to accomplish, at an average labor rate of $65 per work hour. Required parts would cost approximately $673 per airplane. Based on these figures, the cost impact of the proposed requirements of this AD on these U.S. operators is estimated to be $998 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12399 (66 FR 44043, August 22, 2001), and by adding a new airworthiness directive (AD), to read as follows:

McDonnell Douglas: Docket 2003-NM-70-AD. Supersedes AD 2001-17-08, Amendment 39-12399.

Applicability: Model MD-11 and -11F airplanes, as listed in Boeing Alert Service Bulletin MD11-24A157, Revision 01, dated March 11, 2003; certificated in any category.

Compliance: Required as indicated, unless accomplished previously.

To prevent chafing and arcing of the parallel feeder cables of the number 2 integrated drive generator (IDG), which could result in smoke and/or fire in the right aft galley area, accomplish the following:

Inspection

(a) Do a general visual inspection to detect chafing or damage of the parallel power feeder cables of the number 2 IDG at the applicable time and per the applicable service bulletin specified in Table 1 of this AD. Table 1 is as follows:

Table 1.—Compliance Time/Service Bulletin
Airplanes | Compliance Time | Service Bulletin
For Group 1 airplanes listed in Boeing Alert Service Bulletin MD11-24A157, Revision 01, dated March 11, 2003 | Within 6 months after September 26, 2001 (the effective date of AD 2001-17-08, amendment 39-12399) | McDonnell Douglas Alert Service Bulletin MD11-24A157, dated August 10, 2000.
For Group 2 airplanes listed in Boeing Alert Service Bulletin MD11-24A157, Revision 01, dated March 11, 2003 | Within 6 months after the effective date of this AD | Boeing Alert Service Bulletin MD11-24A157, Revision 01, dated March 11, 2003.

Note 1: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Condition 1 (No Chafing and No Structure Damage)

(1) If no chafing and damage is detected, before further flight, reposition the parallel power feeder cables of the number 2 IDG, per the applicable service bulletin.

Condition 2 (Chafing or Structure Damage)

(2) If any chafing or damage is detected, before further flight, repair the chafed cable and damaged structure, as applicable, and reposition the parallel power feeder cables of the number 2 IDG, per the applicable service bulletin.

Alternative Methods of Compliance

(b)(1) In accordance with 14 CFR 39.19, the Manager, Los Angeles Aircraft Certification Office, FAA, is authorized to approve alternative methods of compliance for this AD.

(2) Alternative methods of compliance, approved previously per AD 2001-17-08, amendment 39-12399, are approved as alternative methods of compliance with the requirements of this AD.

Issued in Renton, Washington, on August 11, 2003.
Neil D. Schalekamp,
Acting Manager, Transport Airplane Directorate, Aircraft Certification Service.

[FR Doc. 03-20835 Filed 8-14-03; 8:45 am]

BILLING CODE 4910-13-P